FEDERAL COMMUNICATIONS COMMISSION

[MB Docket Nos. 06-121, 02-277, MM Docket Nos. 01-235, 01-317, 00-244; DA 07-3470]

2006 Quadrennial Regulatory Review

AGENCY: Federal Communications Commission.

ACTION: Notice; comments requested.

SUMMARY: This document announces the release of and seeks public comment on ten research studies on media ownership intended to inform the Commission's review of its broadcast ownership rules.

DATES: The agency must receive comments on or before October 1, 2007 and reply comments on or before October 16, 2007.

ADDRESSES: Comments may be filed electronically using the Internet by accessing the Electronic Comment Filing System, http://www.fcc.gov/cgb/ecfs/, or the Federal eRulemaking Portal, http://www.regulations.gov. The Commission's contractor will receive hand-delivered or messenger-delivered paper filings for the Commission's Secretary at 236 Massachusetts Avenue, NE., Suite 110, Washington, DC 20002. Commercial overnight mail (other than U.S. Postal Service Express Mail and Priority Mail) must be sent to 9300 East Hampton Drive, Capitol Heights, MD 20743. U.S. Postal Service first-class, Express, and Priority mail should be addressed to 445 12th Street, SW., Washington, DC 20554.

FOR FURTHER INFORMATION CONTACT: Michelle Connolly, Office of Strategic Planning & Policy Analysis, at (202) 418-1503. Press inquiries should be directed to Mary Diamond, Media Bureau, at (202) 418-2388.

SUPPLEMENTARY INFORMATION: 1. The Commission announces the release of ten research studies on media ownership intended to inform the Commission's comprehensive review of its broadcast ownership policies undertaken in rulemaking proceeding MB Docket No. 06-121 involving the issues raised by the opinion of the U.S. Court of Appeals for the Third Circuit in Prometheus v. FCC, 373 F.3d 372 (2004) and its quadrennial review of its broadcast ownership rules and certain other rules, 2006 Quadrennial Review Further Notice of Proposed Rule Making, 71 FR 45511, August 9, 2006. The studies, which were conducted by outside researchers and by Commission staff, examine a range of issues that impact diversity, competition, and localism, three important policy goals of those rules. Pursuant to this public notice, the Commission seeks public comment on the studies, which are available on the Commission's Web site at http://www.fcc.gov/ownership/studies.html. The Commission will incorporate the studies and the public comments in the record of this proceeding. The studies will also be peer-reviewed and the Commission intends to use the data collected in the studies, as well as the comments, to inform its decisions in the ownership proceeding.

2. The following is a list of the media ownership studies released on July 31, 2007 and their respective authors and professional affiliations:

Study 1: How People Get News and Information. This study surveys consumers about their use of media. It identifies consumers' primary, secondary, and tertiary sources of news and information and the frequency with which consumers access these sources. The author is Nielsen Media Research, Inc.

Study 2: Ownership Structure and Robustness of Media. This study describes the ownership structure and robustness of current media, including broadcast television, cable television, satellite television, broadcast radio, satellite radio, newspapers, and the Internet. The information gathered concerning the current media marketplace is compared to the state of the media marketplace when the Commission last reviewed its ownership rules in the years 2002-2003. The authors are Kiran Duwadi, Scott Roberts, and Andrew Wise, FCC; and the Technical Appendix author is Anthony Bush, FCC.

Study 3: Television Station Ownership Structure and the Quantity and Quality of TV Programming. This study analyzes the effect of ownership structure and robustness (as described in Study 2) on various measures of the quantity and the quality of different types of TV programming, including local news and public affairs, minority programming, children's programming, family programming, religious programming, and violent and indecent content. The author is Gregory S. Crawford, Department of Economics, University of Arizona.

Study 4: News Operations. This study, which is divided into four sections, collects data on the size and scope of the news operations of radio and television stations and newspapers. It also analyzes the relationship between the nature of the news operations and market characteristics, including ownership structure and robustness. Section I is The Impact of Ownership Structure on Television Stations' News and Public Affairs Programming by author Daniel Shiman, FCC; Section II is Ownership Structure, Market Characteristics and the Quantity of News and Public Affairs Programming: An Empirical Analysis of Radio Airplay, by author Kenneth Lynch, FCC; Section III is Factors that Affect a Radio Station's Propensity to Adopt a News Format, by author Craig Stroup, FCC; and Section IV is The Effect of Ownership and Market Structure on News Operations, by author Pedro Almoguera, FCC.

Study 5: Station Ownership and Programming in Radio. This study uses station-level data to examine how ownership structure affects the programming and audience of radio stations. The author is Tasneem Chipty, CRA International, Inc.

Study 6: The Effects of Cross-Ownership on the Local Content and Political Slant of Local Television News. This study examines the effect of newspaper cross-ownership on television news coverage using matched pairs of cross-owned and non-cross-owned television stations. The author is Jeffrey Milyo, Center for Applied Economics, University of Kansas, School of Business; Department of Economics and Truman School of Public Affairs, University of Missouri.

Studies 7 and 8: These two studies examine levels of minority ownership of media companies and barriers to entry. Study 7: Minority and Female Ownership in Media Enterprises. The authors are Arie Beresteanu and Paul B. Ellickson, Duke University.

Study 8: The Impact of the FCC's TV Duopoly Rule Relaxation on Minority and Women Owned Broadcast Stations 1999-2006. The author is Allen S. Hammond, IV, Santa Clara University.

Study 9: Vertical Integration and the Market for Broadcast and Cable Television Programming. This study examines levels of vertical integration in the media industry. The author is Austan Goolsbee, University of Chicago, Graduate School of Business; American Bar Foundation; and National Bureau of Economic Research.

Study 10: Review of the Radio Industry, 2007. This study updates a study done during our last review of the media ownership rules, which was titled “Radio Industry Review 2002: Trends in Ownership, Format, and Finance.” The author is George Williams, FCC.

Procedural Matters

3. Interested parties may file comments on or before October 1, 2007 and reply comments on or before October 16, 2007. Comments may be filed using: (1) The Commission's Electronic Comment Filing System (ECFS); (2) the Federal Government's eRulemaking Portal; or (3) by filing paper copies. See Electronic Filing of Documents in Rulemaking Proceedings, 63 FR 24121 (May 1, 1998).

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number. Filings can be sent by hand or messenger delivery, by commercial overnight courier, or by first-class or overnight U.S. Postal Service mail (although we continue to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington DC 20554.

People with Disabilities: To request materials in accessible formats for people with disabilities (Braille, large print, electronic files, audio format) send an e-mail to fcc504@fcc.gov or call the Consumer & Governmental Affairs Bureau at 202-418-0530 (voice), 202-418-0432 (tty).

4. This is a permit-but-disclose notice and comment rulemaking proceeding. Ex parte presentations are permitted, except during the Sunshine Agenda period, provided that they are disclosed as provided in the Commission's rules.

5. For further information, contact Michelle Connolly at (202) 418-1503 of the Office of Strategic Planning & Policy Analysis. Press inquiries should be directed to Mary Diamond, Media Bureau, at (202) 418-2388. TTY: (202) 418-7172 or (888) 835-5322.

Federal Communications Commission.
Royce Sherlock,
Chief, Industry Analysis Division, Media Bureau.

[FR Doc. E7-15457 Filed 8-7-07; 8:45 am]

BILLING CODE 6712-01-P